DEPARTMENT OF DEFENSE

Office of the Secretary

[Docket ID: DOD-2010-OS-0121]

Privacy Act of 1974; System of Records

AGENCY: Defense Threat Reduction Agency, DoD.

ACTION: Notice to amend a system of records.

SUMMARY: Defense Threat Reduction Agency proposes to amend a system of records notice in its existing inventory of record systems subject to the Privacy Act of 1974 (5 U.S.C. 552a), as amended.

DATES: This proposed action will be effective without further notice on October 18, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the Freedom of Information and Privacy Office, Defense Threat Reduction Agency, 8725 John J. Kingman Road, Fort Belvoir, VA 22060-6201.

The specific changes to the record system being amended are set forth below followed by the notice, as amended, published in its entirety. The proposed amendments are not within the purview of subsection (r) of the Privacy Act of 1974 (5 U.S.C. 552a), as amended, which requires the submission of a new or altered system report.

Dated: September 13, 2010.
Mitchell S. Bryman,
Alternate OSD Federal Register Liaison Officer, Department of Defense.

HDTRA 26

System name:

DTRA Telework Program Records (March 10, 2008; 73 FR 12712).

Changes:

* * * * *

System Location:

Delete entry and replace with “Special Programs Management Division (BE-BHS), Human Capital Office, Defense Threat Reduction Agency, 8725 John J. Kingman Road, Fort Belvoir, VA 22060-6201.”

* * * * *

Authority for maintenance of the system:

Delete entry and replace with “5 U.S.C. 6120, Flexible and Compressed Work Schedules, Purposes; DoD Directive 1035.1, Telework Policy for Department of Defense; DoD Instruction 1035.1, Telework Policy; and Defense Threat Reduction Agency Instruction 1100.2, Defense Threat Reduction Agency Telework Program.”

* * * * *

Retention and disposal:

Delete entry and replace with “Records are destroyed in burn bags one year after supersession, cancellation, or termination of agreement.”

System manager(s) and address:

Delete entry and replace with “DTRA Telework Coordinator, Special Programs Management Division (BE-BHS), Human Capital Office, Defense Threat Reduction Agency, 8725 John J. Kingman Road, Fort Belvoir, VA 22060-6201.”

Notification procedure:

Delete entry and replace with “Individuals seeking to determine whether information about themselves is contained in this system of records should address written inquires to the DTRA Telework Coordinator, Special Programs Management Division, Human Capital Office, Defense Threat Reduction Agency, 8725 John J. Kingman Road, Fort Belvoir, VA 22060-6201.

Individuals must provide their full name, address, and a telephone number and the enterprise/staff office where employed at the time they are approved to participate in the DTRA Telework Program.”

Records access procedures:

Delete entry and replace with “Individuals seeking access to information about themselves contained in this system of records should address written inquiries to DTRA Telework Coordinator, Special Programs Management Division Human Capital Office, Defense Threat Reduction Agency, 8725 John J. Kingman Road, Fort Belvoir, VA 22060-6201.

Individuals must provide their full name, address, and a telephone number and the enterprise/staff office where employed at the time they are approved to participate in the DTRA Telework Program.”

* * * * *

HDTRA 026

System name:

DTRA Telework Program Records

System location:

Special Programs Management Division (BE-BHS), Human Capital Office, Defense Threat Reduction Agency, 8725 John J. Kingman Road, Fort Belvoir, VA 22060-6201.

Categories of individuals covered by the system:

Individuals who have been granted approval to telework on a regular/recurring, or situational (ad hoc) basis in accordance with Defense Threat Reduction Agency (DTRA) Telework Program.

Categories of records in the system:

Records include individual's name; office symbol; office telephone number; official duty station; alternative worksite address (GSA Telecenter, home, other alternative worksite); mileage savings; time savings; work schedule and tour of duty at the alternative worksite; regular work schedule (8 hours a day, flexitour or compressed); telework schedule.

Authority for maintenance of the system:

5 U.S.C. 6120, Flexible and Compressed Work Schedules, Purposes; DoD Directive 1035.1, Telework Policy for Department of Defense; DoD Instruction 1035.1, Telework Policy; and Defense Threat Reduction Agency Instruction 1100.2, Defense Threat Reduction Agency Telework Program.

Purpose(s):

Records are used by supervisors and more frequently used by the telework program coordinators for managing, evaluating, and reporting DTRA Telework Program activity and participation. Data on participation in the DTRA Telework Program, minus personal identifiers, may also be provided to the Department of Defense (DoD) for a consolidated DoD response to the Office of Personnel Management (OPM) Telework Survey.

Routine uses of records maintained in the system, including categories of users and the purposes of such uses:

In addition to those disclosures generally permitted under 5 U.S.C. 552a(b) of the Privacy Act of 1974, these records contained therein may specifically be disclosed outside the DOD as a routine use pursuant to 5 U.S.C. 552a(b)(3) as follows:

To the Home and Alternative Worksites, excluding GSA Telecenters, Telework Safety Checklist may be disclosed to the Department of Labor when an employee is injured while working at home while in the performance of normal duties.

To the Office of Personnel Management (OPM) Telework Survey to provide a consolidated data on participation in the DTRA Telework Program, minus personal identifiers, may also be provided.

The DoD `Blanket Routine Uses' published at the beginning of DTRA's compilation of systems of records notices apply to this system.

Policies and practices for storing, retrieving, accessing, retaining, and disposing of records in the system:

Storage:

Records are maintained in paper and electronic media.

Retrievability:

By name and/or office/official duty station/work schedule.

Safeguards:

Access is limited to the Employee Relations and Work Life Division, Human Capital Office. Case records are maintained in locked security containers. Automated records are controlled by limiting physical access to terminals and by the use of passwords. Work areas are sight controlled during normal duty hours. Security guards and an intrusion alarm system protect buildings. A risk assessment has been performed and will be made available upon request. The electronic database is further restricted by the use of Common Access Cards in order to access the excel spreadsheet.

Retention and disposal:

Records are destroyed in burn bags one year after supersession, cancellation, or termination of agreement.

System manager(s) and address:

DTRA Telework Coordinator, Special Programs Management Division (BE-BHS), Human Capital Office, Defense Threat Reduction Agency, 8725 John J. Kingman Road, Fort Belvoir, VA 22060-6201.

Notification procedure:

Individuals seeking to determine whether information about themselves is contained in this system of records should address written inquires to the DTRA Telework Coordinator, Special Programs Management Division, Human Capital Office, Defense Threat Reduction Agency, 8725 John J. Kingman Road, Fort Belvoir, VA 22060-6201.

Individuals must provide their full name, address, and a telephone number and the enterprise/staff office where employed at the time they are approved to participate in the DTRA Telework Program.

Record access procedures:

Individuals seeking access to information about themselves contained in this system of records should address written inquiries to DTRA Telework Coordinator, Special Programs Management Division Human Capital Office, Defense Threat Reduction Agency, 8725 John J. Kingman Road, Fort Belvoir, VA 22060-6201.

Individuals must provide their full name, address, and a telephone number and the enterprise/staff office where employed at the time they are approved to participate in the DTRA Telework Program.

Contesting record procedures:

The DTRA rules for accessing records, for contesting contents, and appealing initial agency determinations are contained in 32 CFR part 318, or may be obtained from the system manager.

Record source categories:

Data is supplied by telework participants and their supervisors.

Exemptions claimed for the system:

None.

[FR Doc. 2010-23094 Filed 9-15-10; 8:45 am]

BILLING CODE 5001-06-P